DEPARTMENT OF ENERGY

Federal Energy Regulatory Commission

[Project No. 13870-000]

Qualified Hydro 34, LLC; Notice of Preliminary Permit Application Accepted for Filing and Soliciting Comments, Motions To Intervene, and Competing Applications

On October 15, 2010, Qualified Hydro 34, LLC filed an application for a preliminary permit, pursuant to section 4(f) of the Federal Power Act (FPA), proposing to study the feasibility of the Foster Joseph Sayers Dam Hydroelectric Project to be located on Bald Eagle Creek in the vicinity of Liberty Township in Centre County, Pennsylvania. The sole purpose of a preliminary permit, if issued, is to grant the permit holder priority to file a license application during the permit term. A preliminary permit does not authorize the permit holder to perform any land-disturbing activities or otherwise enter upon lands or waters owned by others without the owners' express permission.

The proposed project would utilize the existing U.S. Army Corps of Engineers' Foster Joseph Sayers Dam and would consist of the following: (1) One vertical Kaplan turbine and generator unit rated at 25-megawatts; (2) a 40- by 50-foot powerhouse; (3) a 100-foot-long steel-lined penstock; (4) a 6,600-foot-long transmission line; and (5) appurtenant facilities. The estimated annual generation of the Foster Joseph Sayers Dam Hydroelectric Project would be 12 gigawatt-hours.

Applicant Contact: Ramya Swaminathan, Chief Operating Officer, Free Flow Power, 33 Commercial Street, Gloucester, MA 01930; phone: (978) 283-2822.

FERC Contact: Brandi Sangunett (202) 502-8393.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13870-000) in the docket number field to access the document. For assistance, contact FERC Online Support.

Dated: February 22, 2011.
Kimberly D. Bose,
Secretary.

[FR Doc. 2011-4415 Filed 2-28-11; 8:45 am]

BILLING CODE 6717-01-P